DEPARTMENT OF TRANSPORTATION

National Highway Traffic Safety Administration

[Docket No. NHTSA-2016-0028; Notice 2]

Volkswagen Group of America, Inc., Grant of Petition for Decision of Inconsequential Noncompliance

AGENCY: National Highway Traffic Safety Administration (NHTSA), Department of Transportation (DOT).

ACTION: Grant of petition.

SUMMARY: Volkswagen Group of America, Inc. (Volkswagen), has determined that certain model year (MY) 2016 Volkswagen Beetle Convertible passenger cars do not fully comply with Federal Motor Vehicle Safety Standard (FMVSS) No. 110, Tire Selection and Rims and Motor Home/Recreation Vehicle Trailer Load Carrying Capacity Information for Motor Vehicles with a GVWR of 4,536 kilograms (10,000 pounds) or Less. Volkswagen filed a defect report dated February 23, 2016. Volkswagen then petitioned NHTSA on March 15, 2016, for a decision that the subject noncompliance is inconsequential to motor vehicle safety.

ADDRESSES: For further information on this decision please contact Kerrin Bressant, Office of Vehicle Safety Compliance, the National Highway Traffic Safety Administration (NHTSA), telephone (202) 366-1110.

SUPPLEMENTARY INFORMATION:

I. Overview

Volkswagen Group of America, Inc. (Volkswagen), has determined that certain model year (MY) 2016 Volkswagen Beetle Convertible passenger cars do not fully comply with paragraph S4.3(d) of Federal Motor Vehicle Safety Standard (FMVSS) No. 110, Tire Selection and Rims and Motor Home/Recreation Vehicle Trailer Load Carrying Capacity Information for Motor Vehicles with a GVWR of 4,536 kilograms (10,000 pounds) or Less. Volkswagen filed a report dated February 23, 2016, pursuant to 49 CFR part 573, Defect and Noncompliance Responsibility and Reports. Volkswagen also petitioned NHTSA on March 15, 2016, under 49 CFR part 556 for a decision that the subject noncompliance is inconsequential to motor vehicle safety.

Pursuant to 49 U.S.C. 30118(d) and 30120(h) and the rule implementing those provisions at 49 CFR part 556, Volkswagen has petitioned for an exemption from the notification and remedy requirements of 49 U.S.C. Chapter 301 on the basis that this noncompliance is inconsequential to motor vehicle safety.

The notice of receipt of Volkswagen's petition was published, with a 30-day public comment period, on June 14, 2016 in the Federal Register (81 FR 38772). No comments were received. To view the petition and all supporting documents log onto the Federal Docket Management System (FDMS) Web site at: http://www.regulations.gov/. Then follow the online search instructions to locate docket number “NHTSA-2016-0028.”

II. Vehicles Involved

Affected are approximately 325 MY 2016 Volkswagen Beetle Convertible passenger vehicles that were manufactured between June 18, 2015, and November 9, 2015.

III. Noncompliance

Volkswagen stated that the subject vehicles have a Tire Placard Label that is misprinted with an incorrect tire size as compared to the tires the vehicle was equipped with and therefore does not fully conform to paragraph S4.3(d) of FMVSS No. 110.

IV. Rule Text

Paragraph S4.3(d) of FMVSS No. 110 requires, in pertinent part:

S4.3 Placard. Each vehicle, except for a trailer or incomplete vehicle, shall show the information specified in S4.3 (a) through (g), and may show, at the manufacturer's option, the information specified in S4.3 (h) through (i), on a placard permanently affixed to the driver's side B-pillar . . .

(d) Tire size designation, indicated by the headings “size” or “original tire size” or “original size,” and “spare tire” or “spare,” for the tires installed at the time of the first purchase for purposes other than resale. For full size spare tires, the statement “see above” may, at the manufacturer's option replace the tire size designation. If no spare tire is provided, the word “none” must replace the tire size designation.

V. Summary of Volkswagen's Petition

Volkswagen described the subject noncompliance and stated its belief that the noncompliance is inconsequential to motor vehicle safety for the following reasons:

(1) Volkswagen stated that the condition described (tire placard with an incorrect label size on it) would not adversely affect the tire and loading capability of the vehicle.

(2) Volkswagen stated that the loading and combined weight information was printed correctly on both versions of the Tire Placard Label.

NHTSA's Decision:

NHTSA's Analysis: The intent of FMVSS No. 110 is to ensure that vehicles are equipped with tires appropriate to handle maximum vehicle loads and prevent overloading. Utilizing the ETRTO Tire and Rim Association Manual of 2016, NHTSA has confirmed that the incorrectly listed size tires would still have a load capacity sufficient to support the listed weight limitation of occupants and cargo which is printed on the Vehicle Placard label. Both the installed original equipment manufacturer (OEM) tires on the vehicle and the installation of the incorrect sized tires listed on the subject vehicle's vehicle placard (tire and loading information label) when inflated to the label's recommended cold inflation pressure are appropriate to handle the vehicle maximum loads. Consequently, the subject noncompliance should not cause any unsafe conditions associated with the incorrect tire size listed on the Vehicle Placard label. Therefore, NHTSA agrees with Volkswagen that the incorrect tire size listed on the Vehicle Placard label does not have any adverse safety implications.

NHTSA's Decision: In consideration of the foregoing, NHTSA finds that Volkswagen has met its burden of persuasion that the subject FMVSS No. 110 noncompliance in the affected vehicles is inconsequential to motor vehicle safety. Accordingly, Volkswagen's petition is hereby granted and Volkswagen is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject vehicles that Volkswagen no longer controlled at the time it determined that the noncompliance existed. However, the granting of this petition does not relieve vehicle distributors and dealers of the prohibitions on the sale, offer for sale, or introduction or delivery for introduction into interstate commerce of the noncompliant vehicles under their control after Volkswagen notified them that the subject noncompliance existed.

Authority: 49 U.S.C. 30118, 30120: Delegations of authority at 49 CFR 1.95 and 501.8.

Jeffrey M. Giuseppe,
Director, Office of Vehicle Safety Compliance.

[FR Doc. 2016-29375 Filed 12-7-16; 8:45 am]

BILLING CODE 4910-59-P